DEPARTMENT OF EDUCATION

34 CFR Chapter III

[Docket ID ED-2015-OSERS-0070]

Final Priority and Definitions—Rehabilitation Training: Vocational Rehabilitation Technical Assistance Center-Targeted Communities

AGENCY: Office of Special Education and Rehabilitative Services, Department of Education.

ACTION: Final priority and definitions.

[CFDA Number: 84.264F.]

SUMMARY: The Assistant Secretary for Special Education and Rehabilitative Services announces a priority and definitions under the Rehabilitation Training program to fund a cooperative agreement to develop and support a Vocational Rehabilitation Technical Assistance Center for Targeted Communities (VRTAC-TC). The Assistant Secretary may use the priority and definitions for competitions in fiscal year (FY) 2015 and later years. We take this action to focus Federal financial assistance on an identified national need. We intend the VRTAC-TC to improve the capacity of State vocational rehabilitation (VR) agencies and their partners to increase participation levels for individuals with disabilities from low-income communities and to equip these individuals with the skills and competencies needed to obtain high-quality competitive integrated employment.

DATES: Effective Date: The priority and definitions are effective September 14, 2015.

FOR FURTHER INFORMATION CONTACT: Felipe Lulli, U.S. Department of Education, 400 Maryland Avenue SW., Room 5054, Potomac Center Plaza (PCP), Washington, DC 20202-2800. Telephone: (202) 245-7425 or by email: felipe.lulli@ed.gov.

If you use a telecommunications device for the deaf (TDD) or a text telephone (TTY), call the Federal Relay Service (FRS), toll free, at 1-800-877-8339.

SUPPLEMENTARY INFORMATION: Purpose of Program: Under the Rehabilitation Act of 1973 (Rehabilitation Act), as amended by the Workforce Innovation and Opportunity Act (WIOA), the Rehabilitation Services Administration (RSA) makes grants to States and public or nonprofit agencies and organizations (including institutions of higher education (IHEs)) to support projects that provide training, traineeships, and technical assistance (TA) designed to increase the numbers of, and improve the skills of, qualified personnel, especially rehabilitation counselors, who are trained to provide vocational, medical, social, and psychological rehabilitation services to individuals with disabilities; assist individuals with communication and related disorders; and provide other services authorized under the Rehabilitation Act.

Program Authority: 29 U.S.C. 772(a)(1).

Applicable Program Regulations: 34 CFR part 385.

We published a notice of proposed priority and definitions (NPP) for this competition in the Federal Register on June 26, 2015 (80 FR 36736). That notice contained background information and our reasons for proposing the particular priority and definitions. Other than minor, technical revisions, there are no differences between the proposed priority and definitions and the final priority and definitions.

Public Comment: In response to our invitation in the NPP, three parties submitted comments.

Generally, we do not address technical and other minor changes.

Analysis of Comments and Changes: An analysis of the comments and of any changes in the priority and definitions since publication of the NPP follows.

Comment: One commenter suggested that consideration be given under paragraph (c) of the Application Requirements, “Quality of the Evaluation Plan,” to plans that have a strong qualitative evaluation component, such as measuring outcomes that include a focus on positive deviance and those factors associated with successful employment outcomes.

Discussion: We agree with the commenter that qualitative evaluation components should be an important aspect of the evaluation plan for the priority. We believe that the requirements in the priority sufficiently address any concern about strong qualitative evaluation. We decline to require applicants to propose an evaluation plan with a focus on the specific qualitative components that the commenter suggests, as we want applicants to have the flexibility to propose an evaluation plan that is tailored to the applicants' specific proposed projects. However, nothing in the priority precludes applicants from including in their evaluation plan the components suggested by the commenter.

Changes: None.

Comment: One commenter suggested we include in the definition of “high-leverage groups with national applicability” a category for individuals with disabilities of employable age who are living in institutional or similar settings. The commenter noted that there are many individuals living in such settings who are waiting for long periods to receive community and employment supports, but who would want or need to work.

Discussion: We agree that providing community living and employment supports to individuals who are living in institutional or similar settings addresses an important problem, but the priority is not intended to address the lack of community-based supports for individuals residing in these types of settings. Rather, the priority is designed to improve VR participation and employment outcomes for individuals who are living in low-income communities, and for whom poverty creates additional barriers to VR participation. Of course, there may be some overlap with individuals with disabilities who live in community group homes or similar situations in low-income areas. To the extent that these overlaps exist, the individuals highlighted by the commenter would directly benefit from this priority.

Changes: None.

Comment: One commenter recommended that a mix of rural and urban settings be considered in selecting the targeted communities because resources, employment options, and other characteristics differ greatly between urban and rural settings.

Discussion: We agree that the issues facing individuals with disabilities living in rural areas often differ from issues facing individuals with disabilities in urban areas. Residents of rural and remote areas are included in the definition of “high-leverage groups with national applicability,” and therefore could be addressed in the TA provided by the VRTAC-TC. Additionally, in reviewing the TA proposals from the VRTAC-TC, RSA will ensure that the selected targeted communities reflect a wide variety of communities.

Changes: None.

Comment: One commenter recommended that we include the analysis of findings and best practices available from the PROMISE (Promoting Readiness of Minors in Social Security Income) grant sites as a first-year activity for the VRTAC, because PROMISE grant sites also seek to establish collaborative, wrap-around services, though for children receiving Supplemental Security Income (SSI).

Discussion: Nothing in the priority would preclude an applicant from including the review of available information from PROMISE projects in its proposed knowledge development activities. However, please note that while such projects may be able to provide valuable information on lessons learned in the implementation of collaborative service strategies during the first year of the VRTAC-TC, it is unlikely that new findings on best practices will be available during this time period.

Changes: None.

Comment: One commenter indicated a concern about the lack of regionally based TA that was formerly provided by the Regional Technical Assistance and Continuing Education (TACE) centers.

Discussion: We recognize the commenter's concern, and it is one that was raised and addressed in the notice of final priority for the Job-Driven Vocational Rehabilitation Technical Assistance Center (79 FR 48983). The VRTAC-TC is not intended to provide comprehensive TA to State VR agencies in the way that the TACE centers were intended to do. Instead, the VRTAC-TC will focus on addressing the long-term and systemic issues facing persistently under-served communities across the Nation (including in eight of the nine Census divisions). While we intend that the communities chosen and the strategies developed for responding to their needs will have national applicability, not all State VR agencies will be able to use all of the tools or resources developed by the VRTAC-TC. However, we believe that across RSA's suite of TA investments, the varying needs of State VR agencies will be adequately met, despite RSA's decision not to continue support for the TACE program.

Changes: None.

Final Priority:

The Assistant Secretary for Special Education and Rehabilitative Services announces a priority for a cooperative agreement to establish a Vocational Rehabilitation Technical Assistance Center for Targeted Communities (VRTAC-TC) to provide technical assistance (TA) and training to upgrade and increase the competency, skills, and knowledge of vocational rehabilitation (VR) counselors and other professionals to assist economically disadvantaged individuals with disabilities (as defined in this notice) to achieve competitive integrated employment outcomes.

The VRTAC-TC will facilitate linkages for the State VR agencies through substantial outreach to partner agencies within targeted communities (as defined in this notice) to increase the resources and key partnerships needed to address the daily living stressors that often result in unsuccessful VR case closures, including childcare needs, homelessness, hunger, safety concerns, interpersonal issues, and lack of transportation, basic or remedial education services, and literacy services.

TA and Training Deliverables

The VRTAC-TC must, at a minimum, develop and provide training, TA, and opportunities for ongoing discussion in each of the following areas to rehabilitation professionals and staff from both (1) the State VR agencies and partner agencies who are serving the targeted communities, and (2) diverse service providers throughout the Nation, including State VR agency staff, who work with high-leverage groups with national applicability (as defined in this notice) in other economically disadvantaged communities similar to the targeted communities that are the focus of this priority:

(a) Developing and maintaining formal and informal partnerships and relationships with relevant stakeholders (including, but not limited to, State and local social service and community development agencies, correctional facilities, community rehabilitation programs (CRPs), school systems, and employers) for the following coordinated activities:

(1) Increasing referrals to the State VR system for economically disadvantaged individuals with disabilities from at least two high-leverage groups with national applicability residing in each of the targeted communities; and

(2) Facilitating the provision of support services by stakeholders to VR consumers and applicants from at least two high-leverage groups with national applicability residing in each of the targeted communities;

(b) Developing and implementing outreach policies and procedures based on evidence-based and promising practices that ensure that consumers with disabilities from each of the targeted communities are located, identified, and evaluated for services; and

(c) Developing and implementing collaborative and coordinated service strategies designed to increase the number of consumers with disabilities from targeted communities who are served by the State VR agencies, receive support services from other stakeholders, and obtain, maintain, regain, or advance in competitive integrated employment.

Project Activities:

To meet the requirements of this priority, the VRTAC-TC must, at a minimum, conduct the following activities:

Knowledge Development Activities

(a) Within the first year, survey each of the 80 State VR agencies regarding the action steps, including emerging, promising, and evidence-based practices utilized, that the VR agencies have previously used to address substandard participation levels and performance outcomes achieved by residents of targeted communities within their States;

(b) Within the first year, conduct a literature review of emerging, promising, and evidence-based practices relevant to the work of the VRTAC-TC. The review should include, at a minimum, research on place-based interventions and the particular needs of economically disadvantaged individuals with disabilities;

(c) By the end of the first year, post on its Web site the results of its survey and literature review; and

(d) Categorize, analyze, and provide an opportunity for interactive commentary by VR professionals about all information posted on its Web site in order to identify the workforce participation challenges and resources that underserved individuals with disabilities (as defined in this notice) from economically disadvantaged communities tend to have in common and to identify examples of the types of VR services that have been used to address their employment and training needs. This interactive process should facilitate both evaluating and adjusting the ongoing and planned interventions within the targeted communities and the development of effective practices for the nationwide VR community.

Targeted Community Selection and Development

(a) In the first year, survey each of the 80 State VR agencies to identify two or more groups of underserved individuals with disabilities from one or more targeted communities in each of their respective States. All identified targeted communities in each State must meet the eligibility requirements for designation as an Empowerment Zone under either 24 CFR 598.100 or 7 CFR 25.100;

(b) Develop intensive TA (as defined in this notice) proposals for at least 20 targeted communities to present to the Rehabilitation Services Administration (RSA). The proposals must:

(1) Include communities that reflect national diversity with respect to State, region, and culture. Communities must be situated in at least 12 States and territories located within no fewer than eight of the nine Census Divisions (State groupings) defined by the U.S. Census Bureau (For more information on Census Divisions, see www.census.gov/geo/reference/gtc/gtc_census_divreg.html). No more than two targeted communities may be located within any one State or territory, and no more than four may be located within any one Census Division; and

(2) Include the following information for each targeted community recommended:

(A) A map that shows the targeted community's boundaries and relevant demographic characteristics, including poverty concentration;

(B) Documentation that within the targeted community's boundaries:

(i) The median household income is below 200 percent of the Federal poverty level; and

(ii) The rate of unemployment is at or above the national annual average rate;

(C) A performance chart of State VR agency data that documents substandard participation levels and performance outcomes achieved by VR consumers and applicants from high-leverage groups with national applicability from the targeted communities in comparison to the State's overall performance that includes the following for all relevant groups:

(i) The number of applicants and percentage of the overall population;

(ii) The number and percentage of individuals determined eligible;

(iii) The number and percentage of individuals receiving VR services pursuant to an individualized plan for employment;

(iv) The number and percentage of individuals whose service records were closed without employment; and

(v) The number and percentage of individuals whose service records were closed after achieving employment;

(D) A brief (one or two pages) overview by the State VR agency addressing the following for high-leverage groups with national applicability from the targeted communities:

(i) The factors that the agency believes have contributed to the substandard performance outlined in the chart; and

(ii) Action steps that the VR agency has previously taken to address these performance gaps;

(E) A two- or three-page proposed intensive TA work plan by the VRTAC-TC that addresses:

(i) The performance gaps summarized in the chart required by paragraph (b)(2)(C) of this section;

(ii) The barriers to employment described in the State VR agency's overview statement required by paragraph (b)(2)(D) of this section;

(iii) The strategies being proposed to remediate the identified barriers in the targeted community;

(iv) The potential replicability of the strategies in the work plan for targeted communities in other parts of the State; and

(v) The potential to replicate the strategies in the work plan for targeted communities in other States; and

(F) Letters of support from the State VR agency and partners in the community (e.g., employers, secondary and post-secondary educational institutions, and community leaders) stating their intent to work cooperatively with the VRTAC-TC should the targeted community be chosen as a recipient of intensive TA.

Targeted Community Timeline

(a) By the end of the first year, provide RSA with, at minimum, 10 proposals (as described in paragraph (b) of the “Targeted Community Selection and Development” section of this priority) from which RSA will select six to receive intensive TA from the VRTAC-TC;

(b) By no later than the third quarter of the second year provide RSA with, at minimum, 10 proposals (as described in paragraph (b) of the “Targeted Community Selection and Development” section of this priority) in addition to the proposals described in paragraph (a) of this section, from which RSA will select six to receive intensive TA from the VRTAC-TC;

(c) By no later than the first quarter of the second year, begin providing intensive TA to VR staff, CRPs, employers, education and training entities, and community leaders, as appropriate, in at least three of the targeted communities approved by RSA in the first year;

(d) By no later than the third quarter of the second year, be providing intensive TA to VR staff, CRPs, employers, education and training entities, and community leaders, as appropriate, in all targeted communities approved by RSA in the first year;

(e) By no later than the first quarter of the third year, begin providing intensive TA to VR staff, CRPs, employers, education and training entities, and community leaders, as appropriate, in at least three of the targeted communities approved by RSA in the second year; and

(f) By no later than the third quarter of the third year, be providing intensive TA to VR staff, CRPs, employers, education and training entities, and community leaders, as appropriate, to all targeted communities approved by RSA in the second year.

Technical Assistance Activities

(a) At a minimum, provide intensive TA that is aligned with the proposals described in paragraph (b) of the “Targeted Community Selection and Development” section of this priority to the VR agency within each of the targeted communities on the following topic areas, as appropriate:

(1) Using labor market data and occupational information to provide individuals with disabilities from high-leverage groups with national applicability who reside in targeted communities with information about job demand, skills matching, supports, education, training, and career options;

(2) Providing disability-related consultation and services to employers about competitive integrated employment of economically disadvantaged individuals with disabilities from high-leverage groups with national applicability;

(3) Building and maintaining relationships in targeted communities with industry leaders, employer associations, and prospective employers of economically disadvantaged individuals with disabilities from high-leverage groups with national applicability;

(4) Building and maintaining relationships with secondary and post-secondary institutions and CRPs that serve to support transition activities and leverage programs and providers of basic education, remedial learning, and literacy services to the targeted communities and are committed to providing individualized wrap-around VR services that are attuned to the remedial and ongoing support services needed by economically disadvantaged individuals with disabilities;

(5) Building and maintaining alliances with schools, community organizations, and business leaders with a heightened understanding of the acculturation and assimilation issues within the targeted communities regarding culture, religion, language, dialect, and socioeconomic status that might be impeding full participation of the economically disadvantaged individuals with disabilities from high-leverage groups with national applicability; and

(6) Developing services for providers of customized training and other types of training that are directly responsive to employer needs and hiring requirements for economically disadvantaged individuals with disabilities from high-leverage groups with national applicability;

(b) By the end of the first year, post on its Web site State agency overview statements specific to high-leverage groups with national applicability along with related VR research studies identified by the VRTAC-TC;

(c) Establish no fewer than two communities of practice with the following areas of focus:

(1) One community of practice should be designed to specifically support State VR agency and related agency staff and management serving targeted communities; and

(2) One community of practice should be designed to be open to all staff and management serving economically disadvantaged communities nationwide and to address the employment needs of individuals with disabilities in those communities;

(d) Ensure that the communities of practice described in paragraph (c) of this section focus on partnerships across service systems designed to develop, implement, adjust, support, and evaluate VR processes and strategies for promoting competitive integrated employment for high-leverage groups with national applicability from targeted communities; and

(e) Develop and make available to State VR agencies and their associated rehabilitation professionals and service providers a range of targeted TA and general TA products and services designed to increase VR participation levels and outcomes achieved by individuals with disabilities from targeted communities. This TA must include, at a minimum, the following activities:

(1) Developing and maintaining a state-of-the-art information technology (IT) platform sufficient to support Webinars, teleconferences, video conferences, and other virtual methods of dissemination of information and TA; and

Note: All products produced by the VRTAC-TC must meet government and industry-recognized standards for accessibility, including section 508 of the Rehabilitation Act. In meeting these requirements, the VRTAC-TC may either develop a new platform or system, or modify existing platforms or systems, so long as the requirements of the priority are met.

(2) Ensuring that all TA products are sent to the National Center for Rehabilitation Training Materials, including course curricula, audiovisual materials, Webinars, and examples of emerging and best practices related to this priority;

(f) During the fourth quarter of both the second year and the fourth year, develop and implement year-end national State VR agency forums dedicated to discussing the progress and lessons learned from the targeted communities; and

(g) During the fourth quarter of the fifth year, present a national results meeting to State VR agencies to review the data collected, best practices developed, and lessons learned from the intensive intervention sites served within the 12 targeted communities, as well as the communities of practice described in paragraph (c) of this section.

Coordination Activities

(a) Facilitate communication and coordination on an ongoing basis with other Federal agencies, State agencies, and local government workforce development partners, as well as private and nonprofit social service agencies and other VR TA centers funded by RSA, in order to:

(1) Maximize existing individual and community assets to effectively address socioeconomic issues that impact employment and overall well-being;

(2) Create a mechanism for partner organizations and community members to participate in the VR program planning process, including brainstorming and vetting new ideas and approaches to VR service provision;

(3) Create an active online community of practice that addresses the needs of participants;

(4) Organize the online community of practice to address both general barriers to employment faced by individuals with disabilities from targeted communities, and barriers to employment faced by individuals with disabilities from diverse high-leverage groups with national applicability including, but not limited to, adjudicated adults and youth, persons with multiple disabilities, and high school dropouts; and

(5) Provide greater access for targeted communities to culturally relevant VR services provided by State VR agency personnel with the support of VRTAC-TC staff and community partners;

(b) Communicate and coordinate, on an ongoing basis, with the communities of practice described in paragraph (c) of the “Technical Assistance Activities” section of this priority; and

(c) Maintain ongoing communications with the RSA project officer.

Application Requirements:

To be funded under this priority, applicants must meet the following application requirements. RSA encourages innovative approaches to meet these requirements, which are:

(a) Demonstrate, in the narrative section of the application, under “Significance of the Project,” how the proposed project will—

(1) Recruit State VR agencies to identify targeted communities with intensive TA needs to take part in the services supported by this priority, including a detailed description of the primary factors and processes proposed to facilitate the identification and selection of these communities;

(2) Address State VR agencies' capacity to meet the employment and training needs of individuals with disabilities from high-leverage groups with national applicability from targeted communities. To meet this requirement, the applicant must:

(i) Demonstrate knowledge of emerging and best practices in conducting outreach and providing VR services to applicants and consumers from economically disadvantaged communities; and

(ii) Demonstrate knowledge of emerging and best practices in conducting outreach and providing VR services to high-leverage groups with national applicability that are frequently reported as underserved or achieving substandard employment outcomes in statewide comprehensive needs assessments, VR-related research studies, or monitoring reports prepared by RSA pursuant to periodic onsite monitoring visits; and

(3) Result in increases both in the number of individuals with disabilities from high-leverage groups with national applicability receiving services from State VR agencies within targeted communities and the number and quality of employment outcomes in competitive integrated employment achieved by these individuals;

(b) Demonstrate, in the narrative section of the application, under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, RSA partners such as the Council of State Administrators of Vocational Rehabilitation and the National Council of State Agencies for the Blind, and other TA Centers and relevant programs within the Departments of Education, Labor, and Commerce;

(2) Use a conceptual framework to develop project plans and activities, describing any underlying concepts, assumptions, expectations, beliefs, or theories, as well as the presumed relationships or linkages among these variables, and any empirical support for this framework;

(3) Be based on current research and make use of evidence-based and promising practices;

(4) Develop products and provide services that are of high quality and sufficient intensity and duration to achieve the intended outcomes of the proposed project;

(5) Develop products and implement services to maximize the project's efficiency. To address this requirement, the applicant must describe—

(i) How the proposed project will use technology to achieve the intended project outcomes; and

(ii) With whom the proposed project will collaborate and the intended outcomes of this collaboration;

(c) Demonstrate, in the narrative section of the application under “Quality of the Evaluation Plan,” how the proposed project will—

(1) Measure and track the effectiveness of the TA provided. To meet this requirement, the applicant must describe its proposed approach to—

(i) Collecting data on the effectiveness of the TA activity from State VR agencies, partners, or other sources, as appropriate; and

(ii) Analyzing data and determining the effectiveness of the TA provided for at least two high-leverage groups with national applicability residing in each of the 12 targeted communities. This process includes evaluation of the effectiveness of current practices within the selected targeted communities throughout the project period, with a goal of demonstrating substantial progress towards achieving outcome parity for the high-leverage groups and other targeted groups with the State VR agency's overall performance with respect to number of applications received and processed, eligibility assessments completed, and both the number and quality of employment outcomes achieved;

(2) Conduct an evaluation of progress made by all of the targeted communities on an annual basis. At the end of the final year of the project, the VRTAC-TC will submit a final report on the project performance to detail the outcomes of individuals with disabilities in the targeted communities. The evaluation will utilize multiple data points as evidence of progress as compared to the baseline established at the beginning of the project, including State VR agency reported data, changes in State policies and procedures, customer surveys, and State personnel input, as well as any other relevant stakeholder input; and

(3) Collect and analyze preliminary quantitative and qualitative data of VR services facilitated and the outcomes achieved by economically disadvantaged individuals with disabilities in at least one other part of the State in which a targeted community is located. State VR personnel from the targeted communities approved by RSA within the first year will serve as trainers for colleagues in other parts of the State by applying or modifying the strategies learned from the VRTAC-TC;

(d) Demonstrate, in the narrative section of the application under “Adequacy of Project Resources,” how—

(1) The proposed key project personnel, consultants, and subcontractors have the qualifications and experience to provide TA to State VR agencies and their partners for each of the activities in this priority and to achieve the project's intended outcomes;

(2) The applicant and any key partners have adequate resources to carry out the proposed activities; and

(3) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions:

The Assistant Secretary announces the following definitions for this program. We may apply one or more of these definitions in any year in which this program is in effect.

Economically disadvantaged individuals with disabilities means individuals with disabilities who are from a household with a median household income below 200 percent of the Federal poverty level; individuals receiving Federal financial assistance through Temporary Assistance to Needy Families (TANF), Social Security Disability Insurance (SSDI), or Supplemental Security Income (SSI); or individuals residing in public housing and participating in the Section 8 housing-choice voucher program.

General technical assistance (TA) means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

High-leverage groups with national applicability means groups of individuals with disabilities who are frequently identified by State VR agencies throughout the Nation in their statewide comprehensive needs assessments as groups comprised of individuals that are either underserved or who have achieved substandard performance. Examples of these groups include, but are not limited to, the following populations:

(A) Residents of rural and remote communities;

(B) Adjudicated adults and youth;

(C) Youth with disabilities in foster care;

(D) Individuals with disabilities receiving Federal financial assistance through TANF;

(E) Culturally diverse populations, e.g., African Americans, Native Americans, and non-English speaking populations;

(F) High school dropouts and functionally illiterate consumers;

(G) Persons with multiple disabilities, e.g., deaf-blindness, HIV/AIDS-substance abuse; and

(H) SSI and SSDI recipients, including subminimum-wage employees.

Intensive technical assistance (TA) means TA services often provided on-site and requiring a stable, ongoing relationship between the VRTAC-TC staff and the TA recipient. Intensive TA should result in changes to policy, programs, practices, or operations that support increased recipient capacity or improved outcomes at one or more systems levels.

Targeted community means any economically disadvantaged community that qualifies as an Empowerment Zone under either 24 CFR 598.100 or 7 CFR 25.100, and in which (a) the median household income is below 200 percent of the Federal poverty level; (b) the unemployment rate is at or above the national average; and (c) as a group, individuals with disabilities have historically sought, been determined eligible for, or received VR services from a State VR agency at less than 65 percent of the average rate for the State VR agency, or who have achieved competitive integrated employment outcomes subsequent to receiving VR services at 65 percent or less of the State VR agency's overall employment outcome level.

Targeted technical assistance (TA) means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

Underserved individuals with disabilities means individuals with disabilities who, because of disability, place of residence, geographic location, age, race, gender, or socioeconomic status, have not historically sought, been determined eligible for, or received VR services at a rate of 65 percent or more of the State's overall service level groups. Underserved individuals include, but are not limited to, subminimum wage employees; adjudicated youth and adults; culturally diverse populations such as African Americans, Native Americans, and non-English speaking persons; individuals living in rural areas; and persons with multiple disabilities such as deaf-blindness.

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the final priority and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Rehabilitation Training program have been well established over the years through the successful completion of similar projects. The priority and definitions would better prepare State VR agency personnel to assist individuals with disabilities living in targeted communities to achieve competitive integrated employment in today's challenging labor market.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program. Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 7, 2015.
Michael K. Yudin,
Assistant Secretary for Special Education and Rehabilitative Services.

[FR Doc. 2015-20014 Filed 8-13-15; 8:45 am]

BILLING CODE 4000-01-P